DEPARTMENT OF DEFENSE

Office of the Secretary

[Transmittal No. 24-01]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-01, Policy Justification, and Sensitivity of Technology.

Dated: November 13, 2025.
Aaron T. Siegel,
Alternate OSD Federal Register Liaison Officer, Department of Defense.

Transmittal No. 24-01

Notice of Proposed Issuance of Letter of Offer Pursuant to Section 36(b)(1) of the Arms Export Control Act, as amended

(i) Prospective Purchaser: Government of Israel

(ii) Total Estimated Value:

Major Defense Equipment * | $ 9.29 billion.
Other | $ 9.53 billion
TOTAL | $18.82 billion

Funding Source: Foreign Military Financing

(iii) Description and Quantity or Quantities of Articles or Services under Consideration for Purchase: The Government of Israel has requested to buy new F-15IA multi-role fighter aircraft, as well as Mid-Life Update modification kits for its existing twenty-five (25) F-15I multi-role fighter aircraft. This notification includes:

Major Defense Equipment (MDE):

Up to fifty (50) F-15IA aircraft

One hundred twenty (120) F110-GE-129 engines

Ninety (90) Advanced Display Core Processors II

Seventy-five (75) APG-82(V)1 Active Electronically Scanned Array radars

Fifty (50) AN/AAQ-13 LANTIRN navigation pods with containers

Three-hundred twenty (320) LAU-128 Advanced Medium Range Air-to-Air Missile launchers

Twenty-five (25) M61A Vulcan Cannons

One hundred eighty (180) Embedded Global Positioning System/Inertial Navigation System devices with M-Code

Non-MDE:

Also included are Cartridge Actuated Devices and Propellant Actuated Devices; Joint Helmet Mounted Cueing Systems; APX-119 Identification Friend or Foe (IFF) systems; KIV-77 Mode 4/5 IFF cryptographic appliques; AN/PYQ-10 Simple Key Loaders; impulse cartridges, chaff, and flares; integration and test support and equipment; aircraft and munitions support and support equipment; secure communications equipment, precision navigation, and cryptographic devices; classified software development, delivery, and support; spare parts, consumables and accessories, and repair and return support; major and minor modifications, maintenance, and maintenance support; facilities and construction support; transportation and airlift support; classified publications and technical documentation; personnel training and training equipment; warranties; studies and surveys; U.S. Government and contractor engineering, technical, and logistics support services; and other related elements of logistics and program support.

(iv) Military Department: Air Force (IS-D-SAH)

(v) Prior Related Cases, if any: IS-D-SPD

(vi) Sales Commission, Fee, etc., Paid, Offered, or Agreed to be Paid: None

(vii) Sensitivity of Technology Contained in the Defense Article or Defense Services Proposed to be Sold: See Attached Annex

(viii) Date Report Delivered to Congress: August 13, 2024

* as defined in Section 47(6) of the Arms Export Control Act.

POLICY JUSTIFICATION

Israel—F-15IA and F-15I+ Aircraft

The Government of Israel has requested to buy up to fifty (50) new F-15IA multi-role fighter aircraft, as well as Mid-Life Update modification kits for its existing twenty-five (25) F-15I multi-role fighter aircraft; one hundred twenty (120) F110-GE-129 engines; ninety (90) Advanced Display Core Processors II; seventy-five (75) APG-82(V)1 Active Electronically Scanned Array radars; fifty (50) AN/AAQ-13 LANTIRN navigation pods with containers; three-hundred twenty (320) LAU-128 Advanced Medium Range Air-to-Air Missile launchers; twenty-five (25) M61A Vulcan cannons; and one hundred eighty (180) Embedded Global Positioning System/Inertial Navigation System devices with M-Code. Also included are Cartridge Actuated Devices and Propellant Actuated Devices; Joint Helmet Mounted Cueing Systems; APX-119 Identification Friend or Foe (IFF) systems; KIV-77 Mode 4/5 IFF cryptographic appliques; AN/PYQ-10 Simple Key Loaders; impulse cartridges, chaff, and flares; integration and test support and equipment; aircraft and munitions support and support equipment; secure communications equipment, precision navigation, and cryptographic devices; classified software development, delivery, and support; spare parts, consumables and accessories, and repair and return support; major and minor modifications, maintenance, and maintenance support; facilities and construction support; transportation and airlift support; classified publications and technical documentation; personnel training and training equipment; warranties; studies and surveys; U.S. Government and contractor engineering, technical, and logistics support services; and other related elements of logistics and program support. The estimated total cost is $18.82 billion.

The United States is committed to the security of Israel, and it is vital to U.S. national interests to assist Israel to develop and maintain a strong and ready self-defense capability. This proposed sale is consistent with those objectives.

The proposed sale will improve Israel's capability to meet current and future enemy air-to-air and air-to-ground threats, strengthen its homeland defense, and serve as a deterrent to regional threats. Israel will have no difficulty absorbing these articles and services into its armed forces.

The proposed sale of this equipment and support will not alter the basic military balance in the region.

The prime contractor will be The Boeing Corporation, located in St. Louis, MO. The purchaser typically requests offsets. Any offset agreement will be defined in negotiations between the purchaser and the contractor.

Implementation of this proposed sale will require the assignment of five additional U.S. Government representatives and one U.S. contractor representative to Israel for a duration of approximately eight years to support modification of the F-15I+, provide security for classified equipment, and provide technical assistance, familiarization, and training for Israel's F-15IA and F-15I+ programs.

There will be no adverse impact on U.S. defense readiness as a result of this proposed sale.

Transmittal No. 24-01

Notice of Proposed Issuance of Letter of Offer Pursuant to Section 36(b)(1) of the Arms Export Control Act

Annex

Item No. vii

(vii) Sensitivity of Technology:

1. The F-15IA aircraft is a two-seat, twin-engine, all-weather, dual-role, advanced long-range interdiction and tactical aircraft based on the F-15E airframe. It features advanced avionics, electronic warfare, and self-protection systems, along with superior weapons payload. The F-15IA can be employed in air superiority, interdiction, close air support, and escort roles.

2. General Electric F110-GE-129 engines are afterburning turbofan jet engines that power the F-15 and deliver 29,100 pound (131 kN) thrust.

3. The Advanced Display Core Processor II is the central aircraft computer of the F-15. It serves as the hub for all aircraft subsystems and avionics data transfer.

4. The AN/APG-82(V) 1 is an Active Electronically Scanned Array radar upgrade for the F-15. It includes higher processor power, higher transmission power, more sensitive receiver electronics, and synthetic aperture radar, which creates higher-resolution ground maps from a greater distance than existing mechanically scanned array radars. The upgrade features an increase in detection range of air targets, increases in processing speed and memory, as well as significant improvements in all modes.

5. The LANTIRN (AN/AAQ-13) is a navigation pod that provides high-speed penetration and precision attack assistance in all flying conditions. The pod uses a terrain-following radar and a fixed infrared sensor to display an image of the terrain in front of the aircraft on a heads-up display.

6. The LAU-128 missile launcher provides a mechanical and electrical interface between AIM-120 Advanced Medium Range Air-to-Air Missiles and the aircraft.

7. The M61 20mm Vulcan Cannon is a six-barreled automatic cannon chambered in 20 x 120mm with a cyclic rate of fire from 2,500-6,000 shots per minute. This weapon is a hydraulically powered air-cooled Gatling gun used to damage and destroy aerial targets, suppress and incapacitate personnel targets, and damage and destroy moving and stationary light materiel targets.

8. The M-Code capable Embedded Global Positioning System (GPS)/Inertial Navigation System, with an embedded GPS Precise Positioning Service Receiver Application Module-Standard Electronic Module, is a self-contained navigation system that provides acceleration, velocity, position, attitude, platform azimuth, magnetic and true heading, altitude, body angular rates, time tags, and coordinated universal time synchronized time. The embedded GRAM-S/M enables access to both the encrypted P(Y) and M-Code signals, providing protection against active spoofing attacks, enhanced military exclusivity, integrity, and anti-jam capabilities.

9. The Joint Helmet Mounted Cueing System is a modified HGU-55/P helmet that incorporates a visor-projected Heads-Up Display to cue weapons and aircraft sensors to air and ground targets, enabling the pilot to monitor aircraft information without interrupting field of view through the cockpit canopy. The system uses a magnetic transmitter unit fixed to the pilot's seat and a magnetic field probe mounted on the helmet to define helmet pointing positioning. A Helmet Vehicle Interface interacts with the aircraft system bus to provide signal generation for the helmet display.

10. The AN/APX-119 is an Identification Friend or Foe (IFF) transponder that provides military aircraft with a secure combat identification capability to help reduce fratricide and enhance battlespace awareness, while providing safe access to civilian airspace.

11. The KIV-77 is a cryptographic applique for IFF. It can be loaded with Mode 5 classified elements.

12. The AN/PYQ-10 Simple Key Loader is a handheld device used for securely receiving, storing, and transferring data between compatible cryptographic and communications equipment.

13. The highest level of classification of defense articles, components, and services included in this potential sale is SECRET.

14. If a technologically advanced adversary were to obtain knowledge of the specific hardware and software elements, the information could be used to develop countermeasures that might reduce weapon system effectiveness or be used in the development of a system with similar or advanced capabilities.

15. A determination has been made that Israel can provide substantially the same degree of protection for the sensitive technology being released as the U.S. Government. This sale is necessary in furtherance of the U.S. foreign policy and national security objectives outlined in the Policy Justification.

16. All defense articles and services listed in this transmittal have been authorized for release and export to Israel.

[FR Doc. 2025-20065 Filed 11-17-25; 8:45 am]

BILLING CODE 6001-FR-P